DEPARTMENT OF LABOR

Employment and Training Administration

[TA-W-38,137]

Vincennces Industries, Vincennces, IN; Notice of Termination of Investigation

Pursuant to section 221 of the Trade Act of 1974, an investigation was initiated on October 2, 2000, in response to a petition filed on behalf on workers at Vincennces Manufacturing, Vincennces, Indiana.

The petitioning group of workers is subject to an ongoing investigation for which a determination has not yet been issued Vincennces Manufacturing, Vincennces, Indiana (TA-W-37,960). Consequently, further investigation in this case would serve no purpose, and the investigation has been terminated.

Signed in Washington, D.C. this 6th day of October 2000.
Linda G. Poole,
Certifying Officer, Division of Trade Adjustment Assistance.

[FR Doc. 00-27574 Filed 10-25-00; 8:45 am]

BILLING CODE 4510-30-M